FEDERAL RESERVE SYSTEM

Change in Bank Control Notices; Acquisitions of Shares of a Bank or Bank Holding Company

The notificants listed below have applied under the Change in Bank Control Act (“Act”) (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 7, 2019.

A. Federal Reserve Bank of Minneapolis (Mark A. Rauzi, Vice President), 90 Hennepin Avenue, Minneapolis, Minnesota 55480-0291:

1. Lana Krause, Winnebago, Minnesota; to retain voting shares of Krause Financial, Inc., Winnebago, Minnesota, and thereby indirectly retain shares of First Financial Bank in Winnebago, Winnebago, Minnesota.

B. Federal Reserve Bank of Dallas (Robert L. Triplett III, Senior Vice President) 2200 North Pearl Street, Dallas, Texas 75201-2272:

1. Kellye Lynee Ortega, Edinburg, Texas, and for Myrhanda Ortega, Edinburg, Texas, to join Kellye Lynee Ortega as a group acting in concert; to acquire voting shares of MNB Ventures, Inc., and thereby acquire shares of Texas National Bank, both of Mercedes, Texas.

Board of Governors of the Federal Reserve System, April 16, 2019.
Yao-Chin Chao,
Assistant Secretary of the Board.

[FR Doc. 2019-07915 Filed 4-18-19; 8:45 am]

BILLING CODE P